DEPARTMENT OF TRANSPORTATION

National Highway Traffic Safety Administration

Petition for Exemption From the Vehicle Theft Prevention Standard; Suzuki

AGENCY: National Highway Traffic Safety Administration (NHTSA), Department of Transportation (DOT).

ACTION: Grant of petition for exemption.

SUMMARY: This document grants in full the American Suzuki Motor Corporation's (Suzuki) petition for an exemption of the Kizashi vehicle line in accordance with 49 CFR part 543, Exemption from the Theft Prevention Standard. This petition is granted because the agency has determined that the antitheft device to be placed on the line as standard equipment is likely to be as effective in reducing and deterring motor vehicle theft as compliance with the parts-marking requirements of the 49 CFR part 541, Federal Motor Vehicle Theft Prevention Standard.

DATES: The exemption granted by this notice is effective beginning with the 2012 model year.

FOR FURTHER INFORMATION CONTACT: Ms. Deborah Mazyck, Office of International Policy, Fuel Economy and Consumer Programs, NHTSA, 400 Seventh Street, SW., Washington, DC 20590. Ms. Mazyck's phone number is (202) 366-4139. Her fax number is (202) 493-2990.

SUPPLEMENTARY INFORMATION: In a petition dated October 22, 2010, Suzuki requested an exemption from the parts-marking requirements of the Theft Prevention Standard (49 CFR part 541) for the MY 2012 Suzuki Kizashi vehicle line. The petition requested an exemption from parts-marking pursuant to 49 CFR part 543, Exemption from Vehicle Theft Prevention Standard, based on the installation of an antitheft device as standard equipment for an entire vehicle line. The agency informed Suzuki by telephone on November 29, 2010, of the areas of insufficiency with respect to its October 22, 2010 petition for exemption. On December 10, 2010, Suzuki submitted supplementary information to the agency addressing its areas of insufficiency.

Under § 543.5(a), a manufacturer may petition NHTSA to grant exemptions for one line of its vehicle lines per year. In its petition, Suzuki provided a detailed description and diagram of the identity, design, and location of the components of the antitheft device for its Kazashi vehicle line. Suzuki will install its passive antitheft device as standard equipment on the line. Key features of the antitheft device will include an electronically coded key fob, Body Control Module (BCM), Engine Control Module (ECM) and a passive immobilizer. Suzuki's submission, along with its supplementary information is considered a complete petition as required by 49 CFR 543.7, in that it meets the general requirements contained in § 543.5 and the specific content requirements of § 543.6. Suzuki stated that the proposed device is designed to be active at all times without direct intervention by the vehicle operator and is fully armed immediately after the ignition has been turned off and the key is removed. The device will provide protection against unauthorized starting and fueling of the engine. Suzuki further stated that the device will also incorporate an audible and visible alarm feature as standard equipment. The lights will flash and the horn will sound in the event of unauthorized vehicle entry.

Suzuki stated that the antitheft device will also utilize a special ignition key and decoder module. Before the vehicle can be operated, the coded key fob must be confirmed to authorize start and fuel of the engine. Specifically, Suzuki stated that the BCM sends a signal and an electronically-coded identification number to the key fob. If the correct key fob is used, it conducts a calculation and sends the result to the BCM. The BCM also conducts its own calculation and verifies that the BCM and key fob calculation result are identical. If the results are identical, the BCM will send data to the ECM allowing the vehicle to start. If either the key fob identification number or calculation result are not an exact match with the BCM information, Suzuki stated that the ECM will prohibit operation of the vehicle.

In addressing the specific content requirements of 543.6, Suzuki provided information on the reliability and durability of the proposed device. To ensure reliability and durability of the device, Suzuki conducted tests based on its own specified standards. Suzuki provided a detailed list of the tests conducted on the components of its immobilizer device and believes that the device is reliable and durable since it complied with the specified requirements for each test. According to the information provided by Suzuki, the components of the device were tested and the results confirm that the device performed as designed, meeting compliance in climatic, chemical environments, and immunity to various electromagnetic radiations.

Suzuki stated that although there is no theft data available to show the theft reduction benefits for the Kizashi vehicle line at this time, it has compared the effectiveness of its antitheft device with devices which it believes are functionally and operationally similar to its proposed device. Suzuki stated that data published by the agency, the Highway Loss data Institute and the National Insurance Crime Bureau show the effectiveness of passive immobilizer devices at reducing and deterring theft. Suzuki stated that the agency's theft data show that the theft rate for the 1999 Nissan Maxima equipped with a standard passive immobilizer is 2.5 thefts per thousand vehicles, compared to a theft rate of 5.2 thefts for the 1998 Nissan Maxima without a passive immobilizer, a reduction of more than 50 percent. Additionally, Suzuki noted that data from the Highway Loss Data Institute show that overall theft losses for the 1999 Nissan Maxima (with a passive immobilizer) were reduced by over 85 percent compared to the overall losses for the 1998 Nissan Maxima (without a passive immobilizer). Suzuki provided further information showing that data from the National Insurance Crime Bureau showed a 70 percent reduction in theft when comparing MY 1997 Ford Mustang vehicles (with a standard immobilizer) to MY 1995 Ford Mustang vehicles (without and immobilizer). Suzuki believes that its antitheft device will be no less effective than these devices and similar devices for which NHTSA has already granted exemptions from the parts-marking requirements.

Based on the supporting evidence submitted by Suzuki on the device, the agency believes that the antitheft device for the Kizashi vehicle line is likely to be as effective in reducing and deterring motor vehicle theft as compliance with the parts-marking requirements of the Theft Prevention Standard (49 CFR part 541). The agency concludes that the device will provide the five types of performance listed in § 543.6(a)(3): promoting activation; attracting attention to the efforts of an unauthorized person to enter or move a vehicle by means other than a key; preventing defeat or circumvention of the device by unauthorized persons; preventing operation of the vehicle by unauthorized entrants; and ensuring the reliability and durability of the device.

Pursuant to 49 U.S.C. 33106 and 49 CFR 543.7 (b), the agency grants a petition for exemption from the parts-marking requirements of part 541 either in whole or in part, if it determines that, based upon substantial evidence, the standard equipment antitheft device is likely to be as effective in reducing and deterring motor vehicle theft as compliance with the parts-marking requirements of part 541. The agency finds that Suzuki has provided adequate reasons for its belief that the antitheft device for the MBUSA new vehicle line is likely to be as effective in reducing and deterring motor vehicle theft as compliance with the parts-marking requirements of the Theft Prevention Standard (49 CFR part 541). This conclusion is based on the information MBUSA provided about its device.

For the foregoing reasons, the agency hereby grants in full Suzuki's petition for exemption for the Kizashi vehicle line from the parts-marking requirements of 49 CFR part 541. The agency notes that 49 CFR part 541, appendix A-1, identifies those lines that are exempted from the Theft Prevention Standard for a given model year. 49 CFR 543.7(f) contains publication requirements incident to the disposition of all part 543 petitions. Advanced listing, including the release of future product nameplates, the beginning model year for which the petition is granted and a general description of the antitheft device is necessary in order to notify law enforcement agencies of new vehicle lines exempted from the parts marking requirements of the Theft Prevention Standard.

If Suzuki decides not to use the exemption for this line, it should formally notify the agency. If such a decision is made, the line must be fully marked as required by 49 CFR 541.5 and 541.6 (marking of major component parts and replacement parts).

NHTSA notes that if Suzuki wishes in the future to modify the device on which this exemption is based, the company may have to submit a petition to modify the exemption. Part 543.7(d) states that a part 543 exemption applies only to vehicles that belong to a line exempted under this part and equipped with the antitheft device on which the line's exemption is based. Further, § 543.9(c)(2) provides for the submission of petitions “to modify an exemption to permit the use of an antitheft device similar to but differing from the one specified in that exemption.” The agency wishes to minimize the administrative burden that part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: January 21, 2011.
Joseph S. Carra,
Acting, Associate Administrator for Rulemaking.

[FR Doc. 2011-1772 Filed 1-26-11; 8:45 am]

BILLING CODE 4910-59-P